ENVIRONMENTAL PROTECTION AGENCY

[EPA-HQ-OPPT-2020-0077; FRL-10014-64]

Certain New Chemicals; Receipt and Status Information for August 2020

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 08/01/2020 to 08/31/2020.

DATES: Comments identified by the specific case number provided in this document must be received on or before October 26, 2020.

ADDRESSES: Submit your comments, identified by docket identification (ID) number EPA-HQ-OPPT-2020-0077, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 08/01/2020 to 08/31/2020. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 08/01/2020 to 08/31/2020
Case No. | Version | Received date | Manufacturer | Use | Chemical substance
P-16-0345A | 6 | 08/09/2020 | CBI | (G) Processing aid | (G) Acrylamide, polymer with methacrylic acid derivatives.
P-16-0420A | 3 | 07/31/2020 | CBI | (S) The notified substance will be used as a fragrance ingredient, being blended (mixed) with other fragrance ingredients to make fragrance oils that will be sold to industrial and commercial customers for their incorporation into soaps, detergents, cleaners and other similar household and consumer products | (G) Dimethyl cyclohexenyl propanol.
P-17-0115A | 5 | 08/25/2020 | CBI | (S) An adhesion promoter for coating formulations | (G) Aminoalkyl alkoxysilane.
P-17-0281A | 7 | 08/05/2020 | CBI | (G) Water reducible resin | (G) Polysiloxane-polyester polyol carboxylate.
P-18-0065A | 2 | 08/17/2020 | Evonik Corporation | (S) Absorption agent and lab reagent | (S) 1,3-Propanediamine, N1,N1-dimethyl-N3-(2,2,6,6-tetramethyl-4-piperidinyl)-.
P-18-0202A | 7 | 08/06/2020 | Hexion, Inc | (G) Rubber additive and Tackifier additives | (G) Trialkyl alkanal, polymer with phenol.
P-18-0203A | 7 | 08/06/2020 | Hexion, Inc | (G) Rubber additive and Tackifier additives | (G) Trialkyl alkanal, polymer with alkylalkanal and phenol.
P-18-0204A | 7 | 08/06/2020 | Hexion, Inc | (G) Rubber additive and Tackifier additive | (G) Alkyl alkanal, polymer with phenol.
P-18-0205A | 7 | 08/06/2020 | Hexion, Inc | (G) Tackifier additive | (G) Alkyl alkanal, polymer with formaldehyde and phenol.
P-18-0206A | 7 | 08/06/2020 | Hexion, Inc | (G) Rubber additive and Tackifier additive | (G) Alkanal, polymer with phenol.
P-18-0241A | 5 | 07/31/2020 | CBI | (G) Additive for automotive coating | (G) 2-Propenoic acid, 2-methyl-, methyl ester, polymer with ethenylbenzene, ethyl 2-propenoate, 2-oxiranylmethyl 2-methyl-2-propenoate and 1,2-propanediol mono(2-methyl-2-propenoate), reaction products with diethanolamine, polymers with substituted-alkyl acrylate, formates (salts).
P-18-0244A | 5 | 07/31/2020 | CBI | (G) Additive for automotive coating | (G) 2-Propenoic acid, 2-methyl, methyl ester, polymer with ethenylbenzene, ethyl 2-propenoate, 2-oxiranylmethyl 2-methyl-2-propenoate and 1,2-propanediol mono(2-methyl-2-propenoate), reaction products with diethanolamine, polymers with substituted-alkyl methacrylate, formates (salts).
P-18-0245A | 5 | 07/31/2020 | CBI | (G) Additive for automotive coating | (G) 2-Propenoic acid, 2-methyl-, methyl ester, polymer with ethenylbenzene, ethyl 2-propenoate, 2-oxiranylmethyl 2-methyl-2-propenoate, and 1,2-propanediol mono(2-methyl-2-propenoate), reaction products with diethanolamine, polymers with alkylene glycol monoacrylate, formates (salts).
P-18-0256A | 6 | 08/18/2020 | CBI | (G) Chemical intermediate | (S) Undecanol, branched.
P-18-0273A | 6 | 08/14/2020 | CBI | (G) Used in polymer manufacturing | (S) 1,4-Cyclohexanedicarboxylic acid, 1,4-bis(2-ethylhexyl) ester.
P-18-0351A | 3 | 08/19/2020 | CBI | (G) UV curable inks | (G) Acrylic acid, tricyclo alkyl ester.
P-18-0355A | 4 | 08/03/2020 | CBI | (G) Paint | (G) Alkanediol, Substituted alkyl, polymer with carbomonocyle, alkanedioate substituted carbomonocycle, ester with substituted alkanoate.
P-18-0359A | 4 | 08/18/2020 | CBI | (G) Molded or extruded items | (G) Methoxy Vinyl Ether- Vinylidene Fluoride polymer.
P-18-0396A | 5 | 08/17/2020 | CBI | (G) Paint | (G) Alkenoic acid, alkyl, polymer with carbomonocyle alkyl propenoate and substituted alkyl alkenoate, ester with substituted alkyl alkanoate, tert-butyl substituted peroxoate-initiated.
P-18-0398A | 6 | 07/31/2020 | EVONIK Corporation | (S) Intermediate | (G) Polyalkylpolyalkylenepolyamine.
P-18-0399A | 8 | 08/14/2020 | CBI | (G) (c) open, non-dispersive use additive for industrial use only | (G) Rosin adduct ester, polymer with polyols, compd. with ethanolamine.
P-18-0407A | 4 | 08/14/2020 | CBI | (S) Polyurethane catalyst | (S) 1,2-Ethanediamine, N,N-dimethyl-N-(1-methylethyl)-N-[2-[methyl(1-methylethyl)amino]ethyl]-.
P-19-0084A | 4 | 07/30/2020 | CBI | (S) Flame retardant | (S) Diphosphoric acid, compd. with 1,3,5-triazine-2,4,6-triamine (1:2).
P-19-0141A | 7 | 08/24/2020 | CBI | (S) For use in metal treatment coatings for lubrication and corrosion protection. | (S) Phosphoric Acid, manganese(2+) salt (2:3).
P-19-0147A | 5 | 08/17/2020 | CRODA, INC. | (G) cleaning additive | (G) alkoxylated butyl alkyl ester.
P-20-0010A | 9 | 08/26/2020 | CBI | (G) Polymerization auxiliary | (G) Carboxylic acid, reaction products with metal hydroxide, inorganic dioxide and metal.
P-20-0025A | 4 | 08/05/2020 | Biosynthetic Technologies | (S) Motor oil lubricant, formulation #1 (prepared at a processor which is controlled by others) and Motor oil lubricant, formulation #2 (prepared at a processor which is controlled by others) | (S) Octadecanoic acid, 12-(acetoxy)-, 2-ethylhexyl ester.
P-20-0046A | 4 | 08/19/2020 | CBI | (G) Catalyst | (G) Reaction products of alkyl-terminated alkylalumuminoxanes and {[(pentaalkylphenyl-(pentaalkylphenyl)amino)alkyl]alkanediaminato}bis(aralkyl) transition metal coordination compound.
P-20-0048A | 4 | 08/20/2020 | CBI | (G) Catalyst | (G) Reaction products of alkyl-terminated alkylaluminoxanes and dihalogeno-(alkylcyclopentadienyl)(tetraalkylcyclopentadienyl)transition metal coordination compound.
P-20-0049A | 4 | 08/20/2020 | CBI | (G) Catalyst | (G) Reaction products of alkyl-aluminoxanes and bis-(alkylcyclodialkylene)dihalogenozirconium.
P-20-0076A | 3 | 08/06/2020 | CYTEC Industries, Inc | (G) Mining chemical | (S) Glycine, reaction products with sodium O-iso-Pr carbonodithioate, sodium salts.
P-20-0097A | 3 | 08/24/2020 | Nelson Brothers, LLC | (S) The PMN substance will be used as an emulsifier for applications in explosives | (G) Butanedioic acid, monopolyisobutylene derivs., mixed dihydroxyalkyl and hydroxyalkoxyalkyl diesters.
P-20-0100A | 3 | 08/19/2020 | Evonik Corporation | (S) Manual Dish Detergent, Hard Surface Cleaner, and Laundry Detergent | (S) Glycolipids, rhamnose-contg., Pseudomanas putida-fermented, from D-glucose, potassium salts.
P-20-0105A | 2 | 07/30/2020 | Sound Agriculture Company | (S) Maltol lactone is a compound that promotes microbial activity in the soil, resulting in increased availability of phosphorus for crops. This substance will be used on commercial farming operations | (S) 4H-Pyran-4-one, 3-[(2,5-dihydro-4-methyl-5-oxo-2-furanyl)oxy]-2-methyl-.
P-20-0109 | 2 | 08/05/2020 | Huntsman Corporation | (S) Exhaust dyeing of cotton and cotton blends | (G) Acetamide, N-[3-[alkyl(carbomonocyclic) substituted]carbomonocycle]-, coupled with diazotized 2- substituted-3-halo-5-nitrobenzonitrile.
P-20-0133A | 5 | 08/03/2020 | Huntsman International, LLC | (G) component of foam | (G) Fatty acid oil polymer with aliphatic polyols and aromatic diacid.
P-20-0133A | 6 | 08/05/2020 | Huntsman International, LLC | (G) component of foam | (G) Fatty acid oil polymer with aliphatic polyols and aromatic diacid.
P-20-0134A | 5 | 08/03/2020 | Huntsman International, LLC | (G) component of foam | (G) Aromatic acid, polymer with aliphatic diol and aromatic diacid.
P-20-0134A | 6 | 08/05/2020 | Huntsman International, LLC | (G) component of foam | (G) Aromatic acid, polymer with aliphatic diol and aromatic diacid.
P-20-0135A | 5 | 08/03/2020 | Huntsman International, LLC | (G) component in foam insulation | (G) Fatty acid polymer with polyols, aliphatic alcohol and aromatic diacid.
P-20-0135A | 6 | 08/05/2020 | Huntsman International, LLC | (G) component in foam insulation | (G) Fatty acid polymer with polyols, aliphatic alcohol and aromatic diacid.
P-20-0143A | 2 | 08/05/2020 | CBI | (S) Binder for Thermoplastic Coatings, and Binder or Ink/Adhesive | (S) Cyclohexanemethanamine, 5-amino-1,3,3-trimethyl-, polymer with a-hydro-w-hydroxypoly(oxy-1,4-butanediyl), 5-isocyanato-1-(isocyanatomethyl)-1,3,3-trimethylcyclohexane and 1,1-methylenebis[4-isocyanatobenzene].
P-20-0146 | 1 | 07/30/2020 | CBI | (G) Insulating material for electrical parts | (G) Alkanoic acid, alkyl, carbopolycyclic alkyl ester
P-20-0152. | 2 | 08/03/2020 | SHIN-ETSU MICROSI | (G) Contained use for microlithography for electronic device manufacturing | (G) Sulfonium, triphenyl-, salt with 2,2-dihalo-2-sulfoethyl-2-oxo substituted -heterotricycloalkane-heteropolycyclo-carboxylate (1:1)
P-20-0153. | 2 | 08/04/2020 | CBI | (G) lubricant additive—dispersant | (G) Polyamines, reaction products with succinic anhydride polyalkenyl derivs., borates.
P-20-0154 | 2 | 08/04/2020 | CBI | (G) lubricant additive—dispersant | (G) Polyamines, reaction products with succinic anhydride polyalkenyl derivs., borates.
P-20-0155 | 4 | 08/13/2020 | SHIN-ETSU MICROSI | (G) Contained use for microlithography for electronic device manufacturing | (G) Sulfonium, triphenyl-, salt with 5-alkyl- 2-alkyl- 4-(2,4,6-substituted tri-carbomonocycle, hetero-acid)benzenesulfonate (1:1).
P-20-0155A | 5 | 08/20/2020 | SHIN-ETSU MICROSI | (G) Contained use for microlithography for electronic device manufacturing | (G) Sulfonium, triphenyl-, salt with 5-alkyl- 2-alkyl- 4-(2,4,6-substituted tri-carbomonocycle, hetero-acid)benzenesulfonate (1:1).
P-20-0156 | 1 | 08/03/2020 | CBI | (G) Photolithography | (G) Substituted, triaryl-, tricycloalkane alkyl disubstituted.
P-20-0157 | 1 | 08/05/2020 | CBI | (G) The notified substance will be used as a fragrance ingredient | (G) bis(cycloalkyl-alkyl)ether.
P-20-0158 | 1 | 08/06/2020 | AkzoNobel | (S) External coating for food and beverage cans | (G) Carbomonocyclic diacid, polymer with 2,2-dimethyl-1,3-propanediol, alkanetriol, hexanedioic acid and 1,3-isobenzofurandione, compd. with 2-(dimethylamino)ethanol.
P-20-0159 | 2 | 08/11/2020 | SHIN-ETSU MICROSI | (G) Contained use for microlithography for electronic device manufacturing | (G) Phenoxathiinium, 10-phenyl, 5-alkyl-2-alkyl-4-(2,4,6-substituted tri-carbomonocycle, hetero-acid)benzenesulfonate (1:1).
P-20-0159A | 3 | 08/20/2020 | SHIN-ETSU MICROSI | (G) Contained use for microlithography for electronic device manufacturing | (G) Phenoxathiinium, 10-phenyl, 5-alkyl-2-alkyl-4-(2,4,6-substituted tri-carbomonocycle, hetero-acid)benzenesulfonate (1:1).
P-20-0160 | 2 | 08/11/2020 | Designer Molecules, Inc. | (G) Dielectric film forming material for use in microelectronic assembly applications | (S) Amines, C-36-alkylenedi-, polymers with bicyclo[2.2.1]heptanedimethanamine, [5,5′-biisobenzofuran]-1,1′,3,3′-tetrone and 3a,4,4a,7a, 8,8a-hexahydro-4, 8-etheno-1H,3H-benzo[1,2-c:4, 5-c′]difuran-1,3,5, 7-tetrone, maleated.
P-20-0161 | 1 | 08/18/2020 | Sirrus, Inc | (S) Film former or crosslinker additive used in coatings and adhesives, and Crosslinker additive used in waterborne emulsions | (S) Propanedioic acid, 2-methylene-, 1,3-diethyl ester, polymer with 1,4-butanediol.
P-20-0163 | 1 | 08/21/2020 | Innovative Chemical Technologies, Inc | (G) Contained chemical processing | (S) Butanedioic acid, 2-methylene-, 4-octadecyl ester.
P-20-0164 | 1 | 08/21/2020 | Innovative Chemical Technologies, Inc | (G) Contained chemical processing | (S) Butanedioic acid, 2-methylene-, 4-docosyl ester.
P-20-0165 | 1 | 08/21/2020 | Innovative Chemical Technologies, Inc | (G) Contained chemical processing | (S) Butanedioic acid, 2-methylene-, 4-C16-18-alkyl esters.
* The term `Approved' indicates that a submission has passed a quick initial screen ensuring all required information and documents have been provided with the submission prior to the start of the 90 day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 08/01/2020 to 08/31/2020
Case No. | Received date | Commencement date | If amendment, type of amendment | Chemical substance
P-12-0299 | 08/19/2020 | 06/18/2020 | N | (S) Propanedioic acid, 2-methylene-, 1,3-diethyl ester.
P-16-0232 | 08/10/2020 | 08/07/2020 | N | (G) Zinc, bis[2-(hydroxyl-kO)benzoato-kO]-,(T-4)-, ar, ar'-bis(alkyl) derivs.
P-16-0419 | 08/04/2020 | 07/07/2020 | N | (G) N-alkyl-dialkylpiperidine.
P-16-0423 | 08/04/2020 | 07/14/2020 | N | (G) Tetraalkylpiperidinium halide.
P-17-0086 | 08/10/2020 | 07/31/2020 | N | (S) Cyclohexane, 1,4-bis(ethoxymethyl)-, trans-.
P-17-0086 | 08/10/2020 | 07/31/2020 | N | (S) Cyclohexane, 1,4-bis(ethoxymethyl)-, cis-.
P-17-0086 | 08/10/2020 | 07/31/2020 | N | (S) Cyclohexane, 1,4-bis(ethoxymethyl)-.
P-17-0206 | 07/30/2020 | 07/30/2020 | N | (G) Imino alkane amine phosphate.
P-18-0031 | 07/31/2020 | 07/22/2020 | N | (S) 1, 3-benzenedicarboxylic acid, polymer with 1,3-butanediol, 2,2-dimethyl-1,3-propanediol and 2-ethyl-2-(hydroxymethyl)-1,3-propanediol.
P-18-0151 | 08/26/2020 | 04/01/2018 | N | (S) Formaldehyde, reaction product with 1,3-benzenedimethanamine and p-tert-butylphenol.
P-18-0199 | 08/10/2020 | 07/21/2020 | N | (G) Rare earth oxide.
P-18-0263 | 08/04/2020 | 07/28/2020 | N | (G) Mixed alkyl esters-, polymer with n1-(2-aminoethyl)- l,2-ethanediamine, aziridine, n-acetyl derivs., acetates (salts),.
P-18-0381 | 07/30/2020 | 07/29/2020 | N | (S) Indium manganese yttrium oxide.
P-19-0153 | 08/06/2020 | 08/06/2020 | N | (G) Dibromoalkyl ether tetrabromobisphenol a.
P-19-0174 | 08/12/2020 | 08/10/2020 | N | (S) Octadecanoic acid, (alkylphosphinyl), polyol ester.
P-20-0057 | 08/24/2020 | 08/11/2020 | N | (G) Arene, trimethoxysilyl-, hydrolyzed.
P-20-0086 | 08/21/2020 | 07/31/2020 | N | (G) 2-oxepanone, homopolymer, ester with hydroxyalkyl trioxo heteromonocyclic (3:1).
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 08/01/2020 to 08/31/2020
Case No. | Received date | Type of test information | Chemical substance
L-20-0140 | 08/11/2020 | Particle Size Distribution Report, Dust Explosivity Test | (G) Arylfurandione, [bis(trihaloalkyl)alkylidene]bis-, polymer with alkanediamine.
P-16-0463 | 08/27/2020 | Metals Analysis Report | (G) Silane-treated aluminosilicate.
P-16-0543 | 08/24/2020 | Exposure Monitoring Report | (G) Halogenophosphoric acid metal salt.
P-19-0098 | 08/27/2020 | Ready Biodegradability Modified Sturm Test (OECD Test Guideline 301) | (G) Phosphoric acid, polymer with (hydroxyalkyl)-alkanediol and alkanediol.
P-20-0066 | 08/07/2020 | Toxicity Study by Oral Administration to Han Wistar Rats for 4 Weeks Followed by a 2 Week Recovery Period | (G) 2-propenoic acid, 2-hydroxyethyl ester, reaction products with dialkyl hydrogen heterosubstituted phosphate and dimethyl phosphonate.

If you are interested in information that is not included in these tables, you may contact EPA's technical information contact or general information contact as described under FOR FURTHER INFORMATION CONTACT to access additional non-CBI information that may be available.

Authority: 15 U.S.C. 2601 et seq.

Dated: September 16, 2020.
Pamela Myrick,
Director, Information Management Division, Office of Pollution Prevention and Toxics.

[FR Doc. 2020-21198 Filed 9-24-20; 8:45 am]

BILLING CODE 6560-50-P